DEPARTMENT OF LABOR

Employment and Training Administration

[TA-W-70,048]

Symantec Corporation; Symantec Accounts Payable/Expanse Reporting Team, Finance Department, and Information Technology Division, Including On-Site Leased Workers From Pro Unlimited, Inc., Springfield, OR; Amended Certification Regarding Eligibility To Apply for Worker Adjustment Assistance

In accordance with Section 223 of the Trade Act of 1974, as amended (“Act”), 19 U.S.C. 2273, the Department of Labor issued a Certification of Eligibility to Apply for Worker Adjustment Assistance on July 21, 2009, applicable to workers of Symantec Corporation, Symantec Accounts Payable/Expanse Reporting Team, Finance Department, Springfield, Oregon. The notice was published in the Federal Register on September 2, 2009 (74 FR 45477). The notice of was amended on August 25, 2009 to include on-site leased workers of Pro Unlimited, Inc. The notice was published in the Federal Register on September 22, 2009 (74 FR 48295).

The Department of Labor reviewed the certification for workers of the subject firm and concluded that workers in the Information Technology Division should be included in the certification decision.

Accordingly, the Department is amending this certification to include the Information Technology Division, Symantec Corporation, Springfield, Oregon.

The amended notice applicable to TA-W-70,048 is hereby issued as follows:

All workers of Symantec Corporation, Symantec Accounts Payable/Expense Reporting Team, Finance Department, Information Technology Division, including on-site leased workers from Pro Unlimited, Springfield, Oregon, who became totally or partially separated from employment on or after May 18, 2008, through July 21, 2011, and all workers in the group threatened with total or partial separation from employment on date of certification through two years from the date of certification, are eligible to apply for adjustment assistance under Chapter 2 of Title II of the Trade Act of 1974, as amended.

Signed at Washington, DC, this 24th day of November 2009.
Richard Church,
Certifying Officer, Division of Trade Adjustment Assistance.

[FR Doc. E9-29511 Filed 12-10-09; 8:45 am]

BILLING CODE 4510-FN-P